FEDERAL COMMUNICATIONS COMMISSION

[DA-05-2421]

Maintaining Wireless Service for Consumers Affected by Hurricane Katrina

AGENCY: Federal Communications Commission.

ACTION: Notice.

SUMMARY: In this document, the Wireless Telecommunications Bureau (WTB) and Consumer & Governmental Affairs Bureau (CGB) take steps to ensure that wireless service providers do no improperly disconnect consumers displaced by Hurricane Katrina because they are unable to pay their bills.

FOR FURTHER INFORMATION CONTACT: Leon Jackler, Consumer & Governmental Affairs Bureau, at (202) 418-0946 or Chelsea Fallon, Wireless Telecommunications Bureau, at (202) 418-7991.

SUPPLEMENTARY INFORMATION: This is summary of the Commission's document DA 05-2421, released September 7, 2005, in which the Wireless Telecommunications Bureau (WTB) and Consumer & Governmental Affairs Bureau (CGB) take steps to ensure consumers are not improperly disconnected from wireless service in the wake of Hurricane Katrina. To request materials in accessible formats for people with disabilities (Braille, large print, electronic files, audio format), send an e-mail to fcc504@fcc.gov or call the Consumer & Governmental Affairs Bureau at (202) 418-0530 (voice), (202) 418-0432 (TTY). Document DA 05-2421 can also be downloaded in Word or Portable Document Format (PDF) at: http://www.fcc.gov/.

Synopsis

In this document, the Wireless Telecommunications Bureau (WTB) and Consumer & Governmental Affairs Bureau (CGB) take steps to ensure that wireless service providers do not improperly disconnect consumers displaced by Hurricane Katrina because they are unable to pay their bills. Hurricane Katrina displaced hundreds of thousands of residents of Louisiana, Mississippi, and Alabama, and many thousands of these customers rely on their wireless service during this difficult time to remain in touch with loved ones. As of this date, the United States Post Office is not operating fully throughout the affected area, commercial power capability is not yet available throughout the affected area, and the communications networks (including access to the Internet for online bill pay options) are not at pre-hurricane capabilities. Based on the representations of a number of wireless carriers serving consumers displaced by the hurricane, WTB and CGB understand that the common practice in the wireless industry at this time is to continue providing service to displaced people who cannot pay their bills in the wake of Hurricane Katrina. WTB and CGB understand that consumers displaced by Hurricane Katrina are concerned that wireless service providers may disconnect service for failure to pay their bills. To ensure that consumers of these services continue to maintain access to their wireless service during this difficult time, all licensees of wireless services serving consumers affected by the hurricane are required to submit a report no later than Thursday, September 8, 2005 verifying their compliance with the standard industry practice of maintaining service to people displaced by Hurricane Katrina despite failure to pay bills. Reports should describe the grace period or other relief licensees are providing for this issue. Reports may be submitted in letter format addressed to the chiefs of the respective bureaus. Electronic copies of the reports should be provided to Katrina_Wireless_Report@fcc.gov. In addition, licensees must also serve one copy with the Commission's copy contractor, Best Copying and Printing, Inc. (BCPI), Portals II, 445 12th Street, SW., Room CY-B402, Washington, DC 20554, (202) 488-5300, or via e-mail to fcc@bcpiweb.com.

Federal Communications Commission.
Monica Desai,
Chief, Consumer & Governmental Affairs Bureau.

[FR Doc. 05-19158 Filed 9-27-05; 8:45 am]

BILLING CODE 6712-01-M